DEPARTMENT OF COMMERCE

National Oceanic and Atmospheric Administration

Science Advisory Board (SAB); Public Meeting of the NOAA Science Advisory Board

AGENCY: Office of Oceanic and Atmospheric Research (OAR), National Oceanic and Atmospheric Administration (NOAA), Department of Commerce (DOC).

ACTION: Notice of open meeting.

SUMMARY: This notice sets forth the schedule and proposed agenda of a meeting of the NOAA Science Advisory Board (SAB). The members will discuss issues outlined in the section on Matters to be Considered.

DATES: The meeting will be held Thursday, November 1, 2018 from 9:00 a.m. EDT to 5:00 p.m. EDT and on Friday, November 2, 2018 from 9:00 a.m. EDT to 12:00 p.m. EDT. These times and the agenda topics described below are subject to change. Please refer to the web page www.sab.noaa.gov/SABMeetings.aspx for the most up-to-date meeting times and agenda.

ADDRESSES: The meeting will be held at The Doubletree Bethesda, 8120 Wisconsin Ave., Bethesda, MD 20814.

FOR FURTHER INFORMATION CONTACT: Dr. Cynthia Decker, Executive Director, Science Advisory Board, NOAA, Rm. 11230, 1315 East-West Highway, Silver Spring, Maryland 20910. (Phone: 301-734-1156, Fax: 301-713-1459, Email: Cynthia.Decker@noaa.gov); or visit the NOAA SAB website at http://www.sab.noaa.gov.

SUPPLEMENTARY INFORMATION: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters to be considered: The meeting will include the following topics: (1) Discussion on the Ecosystems Management Working Group Report (ESMWG) on Citizen Science; (2) Updates and information on elements of the SAB work plan; and (3) Update from the Acting NOAA Administrator and a NOAA Science Update.

Status: The meeting will be open to public participation with a 15-minute public comment period on November 1st from 4:45-5:00 p.m. EDT (check website to confirm time). The SAB expects that public statements presented at its meetings will not be repetitive of previously submitted verbal or written statements. In general, each individual or group making a verbal presentation will be limited to a total time of two (2) minutes. Individuals or groups planning to make a verbal presentation should contact the SAB Executive Director by October 23, 2017 to schedule their presentation. Written comments should be received in the SAB Executive Director's Office by October 25, 2018, to provide sufficient time for SAB review. Written comments received by the SAB Executive Director after October 25, 2018, will be distributed to the SAB, but may not be reviewed prior to the meeting date. Seating at the meeting will be available on a first-come, first-served basis.

Special accommodations: These meetings are physically accessible to people with disabilities. Requests for special accommodations may be directed no later than 12:00 p.m. on October 25, 2018, to Dr. Cynthia Decker, SAB Executive Director, SSMC3, Room 11230, 1315 East-West Highway, Silver Spring, MC 20910; Email: Cynthia.Decker@noaa.gov.

Dated: September 24, 2018.
David Holst,
Chief Financial Officer/Administrative Officer, Office of Oceanic and Atmospheric Research, National Oceanic and Atmospheric Administration.

[FR Doc. 2018-22245 Filed 10-11-18; 8:45 am]

BILLING CODE 3510-KD-P